DEPARTMENT OF THE INTERIOR

National Park Service

60-Day Notice of Intention To Request Clearance of Collection of Information; Opportunity for Public Comment

AGENCY: Department of the Interior, National Park Service.

ACTION: Notice and request for comments.

SUMMARY: Under provisions of the Paperwork Reduction Act of 1995 and 5 CFR Part 1320, Reporting and Record Keeping Requirements, the National Park Service (NPS) invites public comments on an extension of a currently approved collection of information (OMB#1024-0224).

DATES: Public comments will be accepted on or before May 29, 2007.

ADDRESSES: Send Comments To: Dr. James H. Gramann, NPS Visiting Chief Social Scientist; NPS Social Science Program, Texas A & M University, 225-B Francis Hall, 2261, College Station, TX 77843; Voice: 202-513-7189; Fax: 202-371-2131; E-mail: James_Gramann@partner.nps.gov. Also, you may send comments to Leonard Stowe, NPS, Information Collection Clearance Officer, 1849 C St., NW. (2065), Washington, DC 20240, or by e-mail at leonard_stowe@nps.gov. All responses to this notice will be summarized and included in the request for the Office of Management and Budget (OMB) approval. All comments will become a matter of public record.

FOR FURTHER INFORMATION CONTACT: Megan McBride, NPS Social Science Senior Research Associate; c/o NPS Air Resource Division, P.O. Box 25287, Denver, Co 80225; Voice: 303-969-2814; E-mail: Megan_McBride@contractor.nps.gov.

SUPPLEMENTARY INFORMATION: Title: Programmatic Approval for NPS-Sponsored Public Surveys.

Bureau Form Number: None.

OMB Number: 1024-0224.

Expiration Date: 1/31/2008.

Type of Request: Extension for a currently approved collection.

Description of Need: The NPS needs information concerning park visitors and visitor services, potential park visitors, and residents of communities near parks to provide park and NPS managers with usable knowledge for improving the quality and utility of agency programs, services, and planning efforts.

Since many of the NPS surveys are similar in terms of the populations being surveyed, the types of questions being asked, and research methodologies, the NPS proposed to and received clearance from OMB for a program of review for NPS-sponsored public surveys (OMB #1024-0224 exp. 8/31/2001; 3-year extension granted, exp. 9/30/2004; 3-year extension granted, exp. 1/31/2008).

The program presented an alternative approach to complying with the Paperwork Reduction Act. In the eight year since the NPS received clearance for the program of expedited review, 371 public surveys have been conducted in units of the National Park System. The benefits of this program have been significant to the NPS, Department of Interior, OMB, NPS cooperators, and the public. Significant time and cost savings have been incurred. Expedited approval was typically granted in 60 days or less from the date the Principal Investigator first submitted the survey package for review. This is a significant reduction over the approximate 6-8 months involved in the standard OMB review process. From FY 1999 through FY 2006, the expedited review process has accounted for a cost savings to the federal government and PIs estimated at $723,087.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Automated data collection: At the present time, there is no automated way to gather this information, since the information gathering process involves asking the public for their opinions on services and facilities that they used during their visits, services and facilities they are likely to use on future park visits, and opinions regarding park management. The burden on individuals is minimized by rigorously designing public surveys to maximize the ability of the surveys to use small samples of individuals to represented large populations of the public, and by coordinating the program of surveys to maximize the ability of new surveys to build on the findings of prior surveys.

Description of respondents: A sample of visitors to parks, potential visitors to parks, and residents of communities near parks.

Estimated average number of respondents: The program does not identify the number of respondents because that number will differ in each individual survey, depending on the purpose and design of each information collection.

Estimated average number of responses: The program does not identify the average number of responses because that number will differ in each individual survey. For most surveys, each respondent will be asked to respond only one time, so in those cases the number of responses will be the same as the number of respondents.

Estimated average burden hours per response: The program does not identify the average burden hours per response because that number will differ from individual survey to individual survey, depending on the purpose and design of each information collection.

Frequency of Response: Most individual surveys will request only 1 response per respondent.

Estimated annual reporting burden: The program identifies the requested total number of burden hours annually for all of the surveys to be conducted under its auspices to be 15,000 burden hours per year. The total annual burden per survey for most surveys conducted under the auspices of this program would be within the range of 50 to 200 hours.

Dated: February 28, 2007.
Leonard E. Stowe,
NPS, Information Collection Clearance Officer.

[FR Doc. 07-1478 Filed 3-26-07; 8:45 am]

BILLING CODE 4312-53-M